DEPARTMENT OF TRANSPORTATION

Office of the Secretary

Aviation Proceedings, Agreements Filed During the Week Ending May 18, 2001.

The following Agreements were filed with the Department of Transportation under the provisions of 49 U.S.C. 412 and 414. Answers may be filed within 21 days after the filing of the application.

Docket Number: OST-2001-9673

Date Filed: May 14, 2001

Parties: Members of the International Air Transport Association

Subject: PTC2 EUR 0377 dated May 11, 2001, TC2 Within Europe Expedited Resolution 002tt, PTC2 EUR 0378 dated May 11, 2001, TC2 Within Europe Expedited Resolution 002mm, PTC2 EUR 0379 dated May 11, 2001, TC2 Within Europe Expedited Resolution 002o, Intended effective dates: September 1, September 15, September 17, 2001

Docket Number: OST-2001-9674

Date Filed: May 14, 2001

Parties: Members of the International Air Transport Association

Subject: PTC2 EUR 0380 dated May 11, 2001, TC2 Within Europe Expedited Resolution 002p, PTC2 EUR 0381 dated May 11, 2001, TC2 Within Europe Expedited Resolution 002v, Intended effective dates: October 1, November 1, 2001.

Docket Number: OST-2001-9712

Date Filed: May 17, 2001

Parties: Members of the International Air Transport Association

Subject: PTC COMP 0808 dated May 18, 2001, Mail Vote 125—Resolution 010b, TC2/TC23 Special Passenger Amending Resolution from Germany, Intended effective date: June 1, 2001.

Dorothy Y. Beard
Federal Register Liaison.

[FR Doc. 01-13555 Filed 5-29-01; 8:45 am]

BILLING CODE 4910-62-P